DEPARTMENT OF THE INTERIOR

Bureau of Land Management

[LLWYD01000-2011-L13110000-EJ0000-LXSI016K0000]

Notice of Meetings of the Pinedale Anticline Working Group, Wyoming

AGENCY: Bureau of Land Management, Interior.

ACTION: Notice.

SUMMARY: In accordance with the Federal Land Policy and Management Act (1976) and the Federal Advisory Committee Act (1972), the U.S. Department of the Interior, Bureau of Land Management (BLM) Pinedale Anticline Working Group (PAWG) will hold a series of meetings in Pinedale, Wyoming. All PAWG meetings are open to the public.

DATES: The PAWG will meet on the following dates: February 7, 2012, May 22 and 23, 2012, and August 7 and 8, 2012, beginning at 9 a.m. MST at the Bureau of Land Management (BLM) Pinedale Field Office.

ADDRESSES: BLM Pinedale Field Office, 1625 West Pine Street, Pinedale, Wyoming.

FOR FURTHER INFORMATION CONTACT: Shelley Gregory, BLM Pinedale Field Office, 1625 West Pine Street, PO Box 768, Pinedale WY 82941; 307-315-0612; ssgregory@blm.gov. Persons who use a telecommunications device for the deaf (TDD), may call the Federal Information Relay Service (FIRS) at 1-800-877-8339 to contact the above individual during normal business hours. The FIRS is available 24 hours a day, 7 days a week, to leave a message or question with the above individual. You will receive a reply during normal business hours.

SUPPLEMENTARY INFORMATION: The PAWG was established by the Environmental Impact Statement (EIS) Record of Decision (ROD) for the PAPA on July 27, 2000 and carried forward with the release of the ROD for the PAPA Supplemental EIS on September 12, 2008.

The PAWG is a Federal Advisory Committee Act (FACA) chartered group which develops recommendations and provides advice to the BLM on mitigation, monitoring, and adaptive management issues as oil and gas development in the PAPA proceeds. Additional information about the PAWG can be found at: http://www.blm.gov/wy/st/en/field_offices/pinedale/pawg.html.

Mary E. Trautner,
Acting State Director.

[FR Doc. 2011-27148 Filed 10-19-11; 8:45 am]

BILLING CODE 4310-22-P